DEPARTMENT OF STATE

[Public Notice 4238]

Office of Foreign Missions, Diplomatic Motor Vehicle Office

30-Day Notice of Proposed Information Collection: Form DS-100, Application for Registration (Mission Vehicle); Form DS-101, Application for Registration (Personal Vehicle); Form DS-102, Application for Title; and Form DS-104, Application for Replacement Plates; OMB Collection Number 1405-0072

AGENCY: Department of State.

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Extension of a currently approved collection.

Originating Office: DS/OFM/VTC/V—Diplomatic Security/Office of Foreign Missions.

Title of Information Collection: Application for Registration (Mission Vehicle), Application for Registration (Personal Vehicle), Application for Title, and Application for Replacement Plates.

Frequency: As often as is necessary to register vehicles, issue titles and issue license plates.

Form Number: DS-100, DS-101, DS-102 and DS-104.

Respondents: Foreign mission personnel assigned to the United States: diplomatic agents, consular officers, administrative and technical staff, specified official representatives of foreign governments to international organizations, and their dependents.

Estimated Number of Respondents: 18,500.

Average Hours Per Response: .5 hours (30 minutes).

Total Estimated Burden: 9,250.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from U.S. Department of State, Office of Foreign Missions, State Annex 33, Room 218, Washington, DC 20520-3302, who may be reached on (202) 895-3500. Public comments and questions should be directed to the State Department Desk Officer, Office of Information and Regulatory Affairs, Office of Management and Budget (OMB), Washington, DC 20530, who may be reached on 202-395-3897.

Dated: November 22, 2002.
Jacqueline D. Robinson,
Director, Diplomatic Motor Vehicles, Office of Foreign Missions, Department of State.

[FR Doc. 02-32543 Filed 12-24-02; 8:45 am]

BILLING CODE 4710-43-P